COMMITTEE FOR PURCHASE FROM PEOPLE WHO ARE BLIND OR SEVERELY DISABLED

Procurement List; Proposed Additions and Deletion

AGENCY: Committee for Purchase From People Who Are Blind or Severely Disabled.

ACTION: Proposed additions to and deletion from procurement list.

SUMMARY: The Committee is proposing to add to the Procurement List products and a service to be furnished by nonprofit agencies employing persons who are blind or have other severe disabilities, and to delete a service previously furnished by such agencies.

Comments Must be Received On or Before: February 8, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List. Comments on this certification are invited. Commenters should identify the statement(s) underlying the certification on which they are providing additional information.

End of Certification

The following products and service are proposed for addition to Procurement List for production by the nonprofit agencies listed:

Products

Product/NSN: Hydramax Hydration System, 8465-00-NIB-0100—Scout Woodland, 8465-00-NIB-0101—Scout Desert, 8465-00-NIB-0102—Scout Black, 8465-00-NIB-0103—Reflector Orange, 8465-00-NIB-0104—Stinger Woodland, 8465-00-NIB-0105—Stinger Desert, 8465-00-NIB-0106—Stinger Black.

Product/NSN: One Quart Black Flexible Canteen, 8465-00-NIB-0109.

Product/NSN: Two Quart Black Flexible Canteen, 8465-00-NIB-0111.

NPA: The Lighthouse for the Blind, Inc. (Seattle Lighthouse), Seattle, Washington.

Contract Activity: Office Supplies & Paper Products Acquisition Center, New York, New York.

Service

Service Type/Location: Grounds Maintenance, Navy & Marine Corps Reserve Center, 995 E. Mission Street, San Jose, California.

NPA: Social Vocational Services, Inc., Torrance, California.

Contract Activity: Naval Facilities Engineering Command, Alameda, California.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Microfilming of EEG Records, Department of Veterans Affairs, William S. Middleton Memorial, Veterans Hospital, Madison, Wisconsin.

NPA: Lester and Rosalie ANIXTER CENTER, Chicago, Illinois.

Contract Activity: Department of Veterans Affairs, Madison Wisconsin.

Sheryl D. Kennerly,
Director, Information Management.

[FR Doc. 04-462 Filed 1-8-04; 8:45 am]

BILLING CODE 6353-01-P